ENVIRONMENTAL PROTECTION AGENCY

[ER-FRL-9027-8]

Environmental Impact Statements; Notice of Availability

Responsible Agency: Office of Federal Activities, General Information (202) 564-7146 or http://www.epa.gov/nepa.

Weekly receipt of Environmental Impact Statements (EISs)

Filed 06/20/2016 Through 06/24/2016,

Pursuant to 40 CFR 1506.9.

Notice

Section 309(a) of the Clean Air Act requires that EPA make public its comments on EISs issued by other Federal agencies. EPA's comment letters on EISs are available at: http://www.epa.gov/compliance/nepa/eisdata.html.

EIS No. 20160143, Final, NMFS, FL, Regulatory Amendment 16 to the Fishery Management Plan for the Snapper-Grouper Fishery of the South Atlantic Region, Review Period Ends: 08/01/2016, Contact: Rick DeVictor. 727-551-5720

EIS No. 20160144, Final, BLM, CO, Dominguez-Escalante National Conservation Area Proposed Resource Management Plan, Review Period Ends: 08/01/2016, Contact: Collin Ewing 970-244-3049.

EIS No. 20160145, Final Supplement, BLM, CO, Roan Plateau Planning Area Proposed Resource Management Plan Amendment, Review Period Ends: 08/01/2016, Contact: Greg Larson 970-876-9048.

EIS No. 20160146, Final, USFS, AK, Tongass Land and Resource Management Plan Amendment, Review Period Ends: 08/01/2016, Contact: Susan Howle 907-225-3101.

EIS No. 20160147, Final, USFS, AK, Kake to Petersburg Transmission Line Intertie Project, Review Period Ends: 08/01/2016, Contact: Tom Parker 907-772-5974.

Dated: June 28, 2016.
Dawn Roberts,
Management Analyst, NEPA Compliance Division, Office of Federal Activities.

[FR Doc. 2016-15709 Filed 6-30-16; 8:45 am]

BILLING CODE 6560-50-P